DEPARTMENT OF AGRICULTURE

Forest Service

Revised Land and Resource Management Plan for the Shawnee National Forest (Alexander, Gallatin, Hardin, Jackson, Johnson, Massac, Pope, Saline, Williamson, and Union Counties, IL)

AGENCY: Forest Service, USDA.

ACTION: Notice of intent supplement.

SUMMARY: On March 20, 2002 the USDA Forest Service published in the Federal Register, a Notice of Intent (NOI) to prepare an Environmental Impact Statement and to revise the Shawnee National Forest Land and Resource Management Plan (Forest Plan). Several public meetings were listed in the NOI. Since these meetings were scheduled fairly early in the comment period, everyone may not have had sufficient notice prior to the meetings. To ensure adequate advance notification, two additional meetings are being scheduled, and the comment period is being extended.

SUPPLEMENTARY INFORMATION: The Shawnee National Forest is scheduling two public meetings in addition to the meetings that were scheduled in the NOI of March 20, 2002. All information shared by the Forest Service at these meetings will be identical to that shared at the previously scheduled meetings. These additional meetings will be held as follows:

May 28, 2002, 2-7 p.m., Township Davis-McCann Center, 15 North 14th Street, Murphysboro, IL 62966

May 29, 2002, 2-7 p.m.; Ralph Metcalf Federal Building, 77 West Jackson Blvd., Chicago, IL 60404.

The period for accepting comments from the public is also being extended. We need to receive your comments on the NOI in writing within 60 days after this NOI Supplement is published in the Federal Register. All other information in the March 20, 2002 NOI remains the same.

Dated: March 27, 2002.
Donald L. Meyer,
Acting Regional Forester.

[FR Doc. 02-7990 Filed 4-02-02; 8:45 am]

BILLING CODE 3410-11-M